NATIONAL TRANSPORTATION SAFETY BOARD

Sunshine Act Meeting

Time and Date: 9:30 a.m., Tuesday, March 18, 2008.

Place: NTSB Conference Center, 429 L'Enfant Plaza SW., Washington, DC 20594.

Status: The one item is open to the public.

Matter to be Considered:

7992—Railroad Accident Report—Collision of Massachusetts Bay Transportation Authority Train 322 and Track Maintenance Equipment near Woburn, Massachusetts, January 9, 2007 (DCA-07-FR-006).

News Media Contact: Telephone: (202) 314-6100.

Individuals requesting specific accommodations should contact Chris Bisett at (202) 314-6305 by Friday, March 14, 2007.

The public may view the meeting via a live or archived webcast by accessing a link under “News & Events” on the NTSB home page at www.ntsb.gov.

For Further Information Contact: Vicky D'Onofrio, (202) 314-6410.

Dated: Friday, March 7, 2007.
Vicky D'Onofrio,
Federal Register Liaison Officer,

[FR Doc. 08-1008 Filed 3-7-08; 12:30 pm]

BILLING CODE 7533-01-M